DEPARTMENT OF HEALTH AND HUMAN SERVICES

Health Resources and Services Administration; Delegation of Authority

Notice is hereby given that I have delegated to the Administrator, Health Resources and Services Administration (HRSA), title III, Section 307, “International Cooperation,” of the Public Health Service (PHS) Act, (42 U.S.C. 242l), as amended, as it pertains to the functions assigned to HRSA for international cooperation, to issue reports to Congress. This authority may be redelegated.

Previous delegations and redelegations made to officials within the Department of Health and Human Services for authorities under Section 307 of the PHS Act continue in effect.

This delegation shall be exercised under the Department's existing delegation and policy on regulations. I have ratified any actions taken by the HRSA Administrator or other HRSA officials which involved the exercise of this authority prior to the effective date of this delegation.

This delegation was effective on the date of signature.

Dated: February 19, 2004
Tommy G. Thompson,
Secretary, Department of Health and Human Services.

[FR Doc. 04-4167 Filed 2-24-04; 8:45 am]

BILLING CODE 4160-1S-M